DEPARTMENT OF TRANSPORTATION

U.S. Maritime Administration

Availability of a Draft Environmental Assessment

[Docket No. 2008-0060]

AGENCY: U.S. Department of Transportation, U.S. Maritime Administration.

ACTION: Notice of Availability of Draft Programmatic Environmental Assessment.

SUMMARY: Notice is hereby given that the U.S. Maritime Administration is issuing a Draft Programmatic Environmental Assessment (EA) for the Removal of Non-Retention Vessels from National Defense Reserve Fleet (NDRF) Sites for Disposal. The Draft EA has been prepared pursuant to the National Environmental Policy Act of 1969 (NEPA) (U.S.C. 4231 et seq.) in accordance with the Council on Environmental Quality (CEQ) regulations for implementing the procedural provisions of NEPA (40 CFR 1500-1508). The Maritime Administration invites comments on the Draft EA.

The purpose of the Programmatic EA is to evaluate the potential environmental impacts from and alternatives to the Removal of Non-Retention Vessels from National Defense Reserve Fleet Sites for Disposal proposed by the Maritime Administration. The Maritime Administration is charged with disposing of obsolete “non-retention” U.S. government-owned merchant type vessels of 1,500 gross tons or more per Section 203 of the Federal Property and Administrative Services Act of 1949, as amended (40 U.S.C. 548 (2008)). Non-retention vessels are vessels that have been determined by the Maritime Administration to be of insufficient value for commercial or military operation by the Federal Government to merit further preservation. 46 U.S.C. 57102 (2008). The Maritime Administration's non-retention ships are located at three fleet anchorages in the James River, Virginia; Beaumont, Texas; and Suisun Bay, California.

The Maritime Administration is proposing to tow obsolete vessels from these three fleet anchorages either to one of seven Maritime Administration-approved or provisionally approved recycling facilities across the United States, or to various locations (to be determined on a case-by-case basis) to be used as artificial reefs, or sold for reuse as limited by applicable law, or to be donated for use as memorials and museums, or to be used by the U.S. Navy in at-sea training exercises referred to as Sinking Exercises, or SINKEX, during which the Navy fires live munitions at the vessel to give trainees a better sense of the capabilities of Navy weaponry. Following the use of live fire, vessels are allowed to sink to the sea bottom.

DATES: Written comments on this Draft Programmatic EA will be accepted on or before August 14, 2008.

Address for Further Information: To send comments or for more information, contact: Carolyn E. Junemann, U.S. Maritime Administration, Office of Environment, 1200 New Jersey Ave., SE., W25-217, Washington, DC 20590, or e-mail: Carolyn.junemann@dot.gov.

A copy of the Draft Programmatic EA can be obtained or viewed online at http://www.regulations.gov. The files are in a portable document format (pdf); in order to review or print the document, users need to obtain a free copy of Acrobat Reader. The Acrobat Reader can be obtained from http://www.adobe.com/prodindex/acrobat/readstep.html.

Copies of the Draft Programmatic EA will also be available for public review during normal business hours at the following locations: Beaumont Public Library, 801 Pearl St, Beaumont, TX 77701; Surry Public Library, 11640 Rolfe Hwy., Surry, VA 23882; Virgil I. Grissom Public Library, 366 DeShazor Drive, Newport News, VA 23608; and Benicia Public Library, 150 E L St., Benicia, CA 94510.

SUPPLEMENTARY INFORMATION: The mission of the Maritime Administration is to strengthen the U.S. maritime transportation system, including infrastructure, industry, and labor, to meet the economic and security needs of the United States, and to promote the development and maintenance of an adequate, well-balanced U.S. merchant marine, sufficient to carry the nation's domestic waterborne commerce and a substantial portion of its waterborne foreign commerce, and capable of service as a naval and military auxiliary in time of war or national emergency. The Maritime Administration also seeks to ensure that the United States maintains adequate shipbuilding and repair services, efficient ports, effective intermodal water and land transportation systems, and reserve shipping capacity for use in time of national emergency.

The Maritime Administration is charged with disposing of obsolete “non-retention” U.S. government-owned merchant type vessels of 1,500 gross tons or more per Section 203 of the Federal Property and Administrative Services Act of 1949, as amended (40 U.S.C. 548 (2008)). Non-retention vessels are vessels that have been determined by the Maritime Administration to be of insufficient value for commercial or military operation by the Federal Government to merit further preservation by the Federal Government. 46 U.S.C. 57102 (2008). The Maritime Administration's non-retention ships are located at three fleet anchorages in the James River, Virginia; Beaumont, Texas; and Suisun Bay, California.

Ongoing maintenance of non-retention vessels is limited to that which is necessary to maintain the integrity of the hull and keeping the established preservation systems in good order. The majority of non-retention NDRF vessels are systematically being recycled. However, some vessels have been loaned to other Government agencies, sold for reuse in accordance with applicable law, used as artificial reefs, used as museums, and used for military and civilian training. All of the vessels to be removed are obsolete non-retention vessels that Congress has directed the Maritime Administration to dispose of under the Merchant Marine Act of 1936, as amended.

The Maritime Administration continues to consider domestic dismantling (recycling) as the predominant means of vessel disposal, but continually evaluates alternative means of disposal such as artificial reefing, sale for reuse, deep-water sinking through the Navy's SINKEX Program, and donations to historic organizations when possible.

Domestic recyclers of obsolete NDRF vessels are required to follow all Federal, state, and local laws and regulations governing worker safety and environmental protection. Specific authority to pay for recycling provided in the Department of Defense Appropriations Act for Fiscal Year 2001 (Pub. L. 106-259 § 8136), was enacted on August 9, 2000, and included a budget for the accelerated recycling of those vessels in the “worst condition.” All other alternatives for disposal are required to be in accordance with all federal, state, and local laws and regulations. Selection of recycling facilities was included in the 2000 Congressional amendments to section 6(c)(1) of the National Maritime Heritage Act (NMHA), which directed the Maritime Administration to dispose of all obsolete vessels “in the manner that provides the best value to the Government” (Pub. L. 106-398, § 3502(a)). In addition, it provided subsection (b) Selection of Scrapping Facilities, which stated that:

The Secretary of Transportation may recycle obsolete vessels pursuant to Section 6(c)(1) of the NMHA of 1994 [16 United States Code (USC) § 5405(c)(1)] through qualified dismantlement facilities, using the most expeditious recycling methodology and location practicable. Dismantlement facilities shall be selected under that section on a best value basis consistent with the Federal Acquisition Regulation (FAR), as in effect on the date of the enactment of this Act * * * taking into consideration, among other things, the ability of facilities to dismantle vessels; (1) at least cost to the Government; (2) in a timely manner; (3) giving consideration to worker safety and the environment; and (4) in a manner that minimizes the geographic distance that a vessel must be towed when towing a vessel poses a serious threat to the environment (Pub. L. 106-398, § 3502(b), 114 Stat. 1654a-490 (2000)).

With this notice, the Maritime Administration invites any affected Federal, State, and local Agencies and other interested persons to comment on the Draft Programmatic EA. Comments may be submitted by mail to the Docket Clerk, Docket Management Facility; U.S. Department of Transportation, 1200 New Jersey Avenue, SE., Room W12-140, Washington, DC 20590-0001. Comments may be hand delivered to Room W12-140 on the plaza level of the U.S. Department of Transportation at 1200 New Jersey Avenue, SE., Washington, DC, between 9 a.m. and 5 p.m., Monday through Friday, except Federal Holidays. Written comments should refer to docket number MARAD 2008-0060. All comments will become part of this docket and will be available for inspection and copying at the above address between 10 a.m. and 5 p.m., E.T., Monday through Friday, except Federal holidays. An electronic version of this document and all documents entered into this docket are available at http://www.regulations.gov. No comments will be accepted after August 14, 2008.

(Authority: 49 CFR 1.66)

By Order of the Maritime Administrator.
Dated: June 24, 2008.
Murray Bloom,
Acting Secretary, Maritime Administration.

[FR Doc. E8-14773 Filed 6-27-08; 8:45 am]

BILLING CODE 4910-81-P